DEPARTMENT OF THE INTERIOR

National Park Service

Notice of Intent To Repatriate Cultural Items: Texarkana Museums System, Texarkana, TX

AGENCY: National Park Service, Interior.

ACTION: Notice.

Notice is here given in accordance with the Native American Graves Protection and Repatriation Act (NAGPRA), 25 U.S.C. 3005, of the intent to repatriate cultural items in the possession of the Texarkana Museums System (formerly the Texarkana Historical Museum), Texarkana, TX, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

From 1971 to 2008, private citizens from Miller County, AR, and Bowie County, TX, donated 209 unassociated funerary objects to the museum. There are no associated human remains in the museum collection for these funerary objects. The 209 unassociated funerary objects are 57 pieces of pottery; 2 stone tools; 1 projectile fragment; 2 stone knives; 7 clay pipes; 5 ear spools; and 135 pottery fragments.

The objects were found in Southwest Arkansas, Northeast Texas, and Southeast Oklahoma. These areas are associated with the Caddo Nation, and are in close proximity to identified and suspected Caddo burial sites. The decorative and construction techniques used in the pottery are consistent with Caddo traditional techniques and with other identified Caddo artifacts found in proximity to Caddo grave sites in the region. The unassociated funerary objects are related to the Caddo Nation who settled the Red River Valley more than 1,200 years ago. The Caddo Nation remained a strong presence in this region well into the 18th century. Based on material culture and provenience, the unassociated funerary objects are reasonably believed to be culturally affiliated with the Caddo Nation of Oklahoma. Representatives of the Caddo Nation of Oklahoma have viewed the unassociated funerary objects and support a cultural affiliation of the Caddo Nation with these objects.

Officials of the Texarkana Museums System have determined that, pursuant to 25 U.S.C. 3001 (3)(B), the 209 cultural items described above are reasonably believed to have been placed with or near individual human remains at the time of death or later as part of the death rite or ceremony and are believed, by a preponderance of the evidence, to have been removed from a specific burial site of a Native American individual. Officials of the Texarkana Museums System also have determined that, pursuant to 25 U.S.C. 3001 (2), there is a relationship of shared group identity that can be reasonably traced between the unassociated funerary objects and the Caddo Nation of Oklahoma.

Representatives of any other Indian tribe that believes itself to be culturally affiliated with the unassociated funerary objects should contact J.A. Simmons, Texarkana Museums System, PO Box 2343, Texarkana, TX 75504, telephone (903) 793-4831, before April 24, 2009. Repatriation of the unassociated funerary objects to the Caddo Nation of Oklahoma may proceed after that date if no additional claimants come forward.

The Texarkana Museums System is responsible for notifying the Caddo Nation of Oklahoma that this notice has been published.

Dated: March 10, 2009
Sherry Hutt,
Manager, National NAGPRA Program.

[FR Doc. E9-6510 Filed 3-24-09; 8:45 am]

BILLING CODE 4312-50-S